FARM CREDIT SYSTEM INSURANCE CORPORATION

Regular Meeting

SUMMARY: Notice is hereby given of the regular meeting of the Farm Credit System Insurance Corporation Board (Board).

DATES AND TIME: The meeting of the Board will be held at the offices of the Farm Credit Administration in McLean, Virginia, on December 8, 2016, from 12:30 p.m. until such time as the Board concludes its business.

FOR FURTHER INFORMATION CONTACT: Dale L. Aultman, Secretary to the Farm Credit System Insurance Corporation Board, (703) 883-4009, TTY (703) 883-4056.

ADDRESSES: Farm Credit System Insurance Corporation, 1501 Farm Credit Drive, McLean, Virginia 22102. Submit attendance requests via email to VisitorRequest@FCA.gov. See SUPPLEMENTARY INFORMATION for further information about attendance requests.

SUPPLEMENTARY INFORMATION: Parts of this meeting of the Board will be open to the public (limited space available), and parts will be closed to the public. Please send an email to VisitorRequest@FCA.gov at least 24 hours before the meeting. In your email include: Name, postal address, entity you are representing (if applicable), and telephone number. You will receive an email confirmation from us. Please be prepared to show a photo identification when you arrive. If you need assistance for accessibility reasons, or if you have any questions, contact Dale L. Aultman, Secretary to the Farm Credit System Insurance Corporation Board, at (703) 883-4009. The matters to be considered at the meeting are:

Open Session

A. Approval of Minutes

• October 13, 2016

B. Business Reports

• September 30, 2016 Financial Reports

• Report on Insured and Other Obligations

• Quarterly Report on Annual Performance Plan

Closed Session

• Confidential Report on System Performance

• Audit Plan for the Year Ended December 31, 2016

Executive Session

• January 14, 2016 Audit Committee Minutes

• Executive Session of the Audit Committee with Auditor

Dated: December 6, 2016.
Dale L. Aultman,
Secretary, Farm Credit System Insurance Corporation Board.

[FR Doc. 2016-29497 Filed 12-8-16; 8:45 am]

BILLING CODE 6710-01-P